DEPARTMENT OF ENERGY

Federal Energy Regulatory Commission

[Docket No. CP04-411-000, COE Application #CENAP-OP-R-200500146; Docket No. CP04-416-000, COE Application #CENAP-OP-R-200500145 and 200500146]

U.S. Army Corps of Engineers, Philadelphia District; Crown Landing, LLC; Texas Eastern Transmission, L.P.; Notice of Availability of the Final Environmental Impact Statement for the Proposed Crown Landing LNG and Logan Lateral Projects

April 28, 2006.

The staff of the Federal Energy Regulatory Commission (FERC or Commission) in cooperation with the U.S. Army Corps of Engineers (COE), U.S. Coast Guard, U.S. Environmental Protection Agency (EPA), and National Oceanic and Atmospheric Administration Fisheries has prepared a final Environmental Impact Statement (EIS) for a liquefied natural gas (LNG) import terminal (referred to as the Crown Landing LNG Project) proposed by Crown Landing, LLC (Crown Landing), a BP Energy Company (BP) affiliate, and natural gas pipeline facilities (referred to as the Logan Lateral Project) proposed by Texas Eastern Transmission, L.P. (Texas Eastern) in the above-referenced dockets.

The final EIS was prepared to satisfy the requirements of the National Environmental Policy Act (NEPA). The staff concludes that approval of the proposed projects with appropriate mitigating measures as recommended, would have limited adverse environmental impact. The final EIS also evaluates alternatives to the proposal, including system alternatives, alternative sites for the LNG import terminal, and pipeline alternatives.

The proposed LNG terminal would be located on the shoreline of the Delaware River in Logan Township, Gloucester County, New Jersey, and would consist of facilities capable of unloading LNG ships, storing up to 450,000 cubic meters (m3³) of LNG (9.2 billion cubic feet of natural gas equivalent), vaporizing the LNG, and sending out natural gas at a baseload rate of 1.2 billion cubic feet per day (Bcfd) and a maximum rate of 1.4 Bcfd (using spare equipment). Crown Landing proposes to interconnect the LNG facilities onsite with three pipelines. One interconnect would be with the new pipeline that Texas Eastern proposes to construct and operate (i.e., Logan Lateral) between its existing Chester Junction facility in Brookhaven Borough, Pennsylvania and the proposed LNG terminal. The other two interconnects would be with existing pipelines that currently cross the LNG terminal site. One of these pipelines is owned and operated by Columbia Gas Transmission Company (Columbia Gas). The other pipeline is owned and operated by Transcontinental Gas Pipe Line Corporation (Transco). To date, neither Columbia Gas nor Transco have filed applications with the FERC to construct and operate the interconnects. The Crown Landing LNG Project would have a maximum delivery capacity of 0.5 Bcfd to the Columbia Gas pipeline system, 0.6 Bcfd to the Transco pipeline system, and 0.9 Bcfd to the Texas Eastern pipeline system.

The proposed preferred project construction site, referenced above, is approximately 175 acres in size (waterward of the low water line on the Delaware River). Within the site there are uplands, wetlands (federally regulated), and intertidal river shoreline (also federally regulated). Construction of the proposed LNG terminal would involve the dredging of shallow water riverbottom and the filling of a small area of intertidal river shoreline for the installation of berthing structures in the Delaware River. No permanent filling of federally regulated wetlands is proposed for construction of the terminal facilities. The proposed pipeline connection would involve the installation of about 11.00 miles of new underground pipeline from the storage and transfer facility in Gloucester County, New Jersey, crossing Birch Creek, Raccoon Creek, Delaware River, Chester Creek, and several smaller waterways on both sides of the Delaware River, to an existing pipeline junction facility in Pennsylvania.

The Birch Creek, Raccoon Creek, Delaware River, and Chester Creek crossings would all be accomplished by Horizontal Directional Drilling (HDD) method. All smaller waterway crossings would be accomplished by open-cut trenching. The rigging for the HDD crossing of the Delaware River would be set-up on the Pennsylvania bank of the river in Chester. The pipeline would be “pulled under” the river from the old Ferry Road roadbed on the New Jersey side.

The following modifications to the project have been proposed since the draft EIS was issued:

(1) Texas Eastern now proposes a contingency plan for constructing the Chester Creek crossing by open-cut method if the HDD method fails.

(2) Crown Landing has submitted a minor modification to the proposed design of the LNG terminal berthing configuration in order to provide for an enhanced margin of safety in LNG carrier maneuvering. The modified proposed design is evaluated in the final EIS. In addition, Crown Landing has re-calculated the volume of material that would result from the dredging for the proposed LNG terminal berthing provisions in order to correct an error identified in the original calculations and to provide for a customary 2 foot “over-dredge” volume. There is no change in the proposed dredging depth or dredged material disposal.

The draft EIS document indicated that 800,000 cubic yards of material would be dredged in the construction of the proposed LNG berthing terminal. Crown Landing now calculates that 1.24 million cubic yards of material would be dredged: 60,000 cubic yards are added to the original total from the safety modifications; 110,000 cubic yards are added by the over-dredge allowance; and 270,000 cubic yards are added from the error correction.

The final EIS addresses the potential environmental effects of the construction and operation of the following LNG and natural gas pipeline facilities:

• A ship unloading facility capable of receiving LNG ships with capacities up to 200,000 m³;

• Three 150,000 m³ (net capacity) full-containment LNG storage tanks, comprised of 9 percent nickel steel inner tank, pre-stressed concrete outer tank, and a concrete roof;

• A closed-loop shell and tube heat exchanger vaporization system;

• Various ancillary facilities, including administrative offices, warehouse/maintenance building, main control center, guardhouse, and a pier control room;

• Three meter and regulation stations located on the proposed LNG terminal site; and

• Approximately 11.00 miles of 30-inch-diameter natural gas pipeline (4.92 miles in Pennsylvania and 6.08 miles in New Jersey), a pig launcher and receiver facility at the beginning and end of the pipeline, a mainline valve, and a meter and regulation station at the end of the pipeline.

Crown Landing and Texas Eastern have applied concurrently to the COE for two Department of the Army Individual Permits pursuant to Section 404 of the Clean Water Act (33 U.S.C. 1344) and section 10 of the Rivers and Harbors Act of 1899 (33 U.S.C. 403). The COE solicited public comment on the applications in their public notice which was included as part of the draft EIS notice for the projects published in February 2005. The COE is now soliciting public comment on the two modifications to the original proposal which are described above: (1) Texas Eastern proposed open-cut contingency for the construction of the proposed Chester Creek pipeline crossing and; (2) the Crown Landing berthing terminal safety modification and related dredge volume calculation.

The COE is soliciting comments from the public; Federal, State and local agencies and officials; Indian Tribes; and other interested parties in order to consider and evaluate any additional impacts resulting from the proposed minor design modifications. Any comments received will be considered by the COE to determine whether to issue, modify, condition, or deny permits for these proposals as modified. To make this decision, comments are used to assess impacts on endangered species, historic properties, water quality, general environmental effects, and the other public interest factors listed in the COE's original notice included with the draft EIS. Comments are used in determining the need for and the preparation of any necessary supplemental NEPA documentation. Comments are also used to determine the need for a public hearing on the proposed design modifications and to determine the overall public interest of the proposed activities. Please carefully follow these instructions to ensure that your comments are received in time and properly recorded:

• Send an original and two copies of your letter on the design modifications to: Magalie R. Salas, Secretary, Federal Energy Regulatory Commission, 888 First St. NE.; Room 1A, Washington, DC 20426;

• Label one copy of the comments for the attention of Gas 1, PJ-11.1;

• Reference Docket Nos. (Crown Landing) CP04-411-000 and (Texas Eastern) CP04-416-000;

• Mail your comments so that they will be received in Washington, DC on or before June 27, 2006 (Copies will be provided to the COE).

The final EIS has been placed in the public files of the FERC and is available for distribution and public inspection at: Federal Energy Regulatory Commission, Public Reference Room, 888 First Street, NE., Room 2A, Washington, DC 20426, (202) 502-8371.

Copies are also available at the following locations:

Gloucester County Library, 415 Swedesboro Road, Gibbstown, NJ 08027.

Gloucester County Library, 101 Beckett Road, Logan Township, NJ 08085.

J. Lewis Crozier Library, 620 Engle Street, Chester, PA 19013.

Aston Public Library, 3720 Concord Road, Aston, PA 19014.

Brandywine Hundred Branch of the New Castle County Library, 1300 Foulk Road, Wilmington, DE 19803.

U.S. Army Corps of Engineers, Regulatory Branch, John Wanamaker Building, 100 Penn Square East, Philadelphia, PA 19107, 215-656-5940.

A limited number of copies are available from the Public Reference Room identified above. In addition, copies of the final EIS have been mailed to Federal, State, and local agencies; public interest groups; individuals and affected landowners who requested a copy of the final EIS; libraries; newspapers; and parties to this proceeding.

In accordance with the Council on Environmental Quality's (CEQ) regulations implementing NEPA, no agency decision on a proposed action may be made until 30 days after the EPA publishes a notice of availability of a final EIS. However, the CEQ regulations provide an exception to this rule when an agency decision is subject to a formal internal process that allows other agencies or the public to make their views known. In such cases, the agency decision may be made at the same time the notice of the final EIS is published, allowing both periods to run concurrently. Should the FERC issue Crown Landing and Texas Eastern authorizations for the proposed projects, it would be subject to a 30-day rehearing period.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

Magalie R. Salas,
Secretary.

[FR Doc. E6-6854 Filed 5-4-06; 8:45 am]

BILLING CODE 6717-01-P